DEPARTMENT OF THE INTERIOR

Bureau of Land Management

[LLAK910000 L13100000.DB0000 LXSINSSI0000]

Notice of Public Meeting, North Slope Science Initiative-Science Technical Advisory Panel

AGENCY: Bureau of Land Management, Alaska State Office, North Slope Science Initiative, Interior.

ACTION: Notice of public meeting.

SUMMARY: In accordance with the Federal Land Policy and Management Act (FLPMA) and the Federal Advisory Committee Act of 1972 (FACA), the U.S. Department of the Interior, North Slope Science Initiative (NSSI)-Science Technical Advisory Panel (STAP) will meet as indicated:

DATES: The meeting will be September 21-23, 2010, in Barrow, Alaska. The meeting begins each day at 9 a.m., in the Inupiat Heritage Center, Barrow, Alaska. The public can make comments between 3 p.m. and 4 p.m. on Wednesday, September 22, 2010.

FOR FURTHER INFORMATION CONTACT: John F. Payne, Executive Director, North Slope Science Initiative, AK-9 10, c/o Bureau of Land Management, 222 W. Seventh Avenue, #13, Anchorage, AK 99513, (907) 271-3431 or e-mail john_f_payne@blm.gov.

SUPPLEMENTARY INFORMATION: The NSSI STAP provides advice and recommendations to the NSSI Oversight Group regarding priority needs for management decisions across the North Slope of Alaska. These priority needs may include recommendations on inventory, monitoring, and research activities that contribute to informed land management decisions. The topics at the meeting include:

• Emerging issue summaries from the STAP.

• Update on the land cover project.

• Update on the project tracking system and database.

• NSSI priority issues, projects and conference proposals.

• Other topics the Oversight Group or STAP may raise.

All meetings are open to the public. The public may present written comments to the Science Technical Advisory Panel through the Executive Director, North Slope Science Initiative. Each formal NSSI meeting allots time for public comment. Depending on time and the number of people wishing to comment, oral comments may be limited. Individuals who plan to attend and need special assistance, such as sign language interpretation, transportation, or other reasonable accommodations, should contact the Executive Director, North Slope Science Initiative.

Before including your address, phone number, e-mail address, or other personal indentifying information in your comment, you should be aware that your entire comment—including your personal identifying information—might be made publicly available at any time. While you can ask us in your comment to withhold your personal identifying information from public review, we cannot guarantee that we will be able to do so.

Dated: August 18, 2010.
Julia Dougan,
Acting Alaska State Director.

[FR Doc. 2010-20955 Filed 8-24-10; 8:45 am]

BILLING CODE 1310-JA-M